DEPARTMENT OF ENERGY

Federal Energy Regulatory Commission

Combined Notice of Filings #1

April 14, 2006.

Take notice that the Commission received the following electric rate filings:

Docket Numbers: ER00-2093-005; ER00-2093-004.

Applicants: Elkem Metals Company-Alloy LP.

Description: Elkem Metals Co-Alloy, LP submits an amendment to its notice of a change in status filed 9/15/05.

Filed Date: 4/5/2006.

Accession Number: 20060412-0112.

Comment Date: 5 p.m. Eastern Time on Wednesday, April 26, 2006.

Docket Numbers: ER02-2134-003.

Applicants: Just Energy, LLC.

Description: Just Energy, LLC submits its Triennial Market Analysis Report.

Filed Date: 4/5/2006.

Accession Number: 20060405-5011.

Comment Date: 5 p.m. Eastern Time on Wednesday, April 26, 2006.

Docket Numbers: ER02-2151-001.

Applicants: Just Energy Ohio, LLC.

Description: Just Energy Ohio, LLC submits its Triennial Market Analysis Report.

Filed Date: 4/5/2006.

Accession Number: 20060405-5014.

Comment Date: 5 p.m. Eastern Time on Wednesday, April 26, 2006.

Docket Numbers: ER03-99-001.

Applicants: Just Energy New York, LLC.

Description: Just Energy New York, LLC submits its Triennial Market Analysis Report.

Filed Date: 4/5/2006.

Accession Number: 20060405-5015.

Comment Date: 5 p.m. Eastern Time on Wednesday, April 26, 2006.

Docket Numbers: ER03-100-001.

Applicants: Just Energy Texas, LLC.

Description: Just Energy Texas, LLC submits its Triennial Market Analysis Report.

Filed Date: 4/6/2006.

Accession Number: 20060405-5091.

Comment Date: 5 p.m. Eastern Time on Thursday, April 27, 2006.

Docket Numbers: ER06-15-002.

Applicants: Midwest Independent Transmission System Operator, Inc; Southwest Power Pool, Inc.

Description: Southwest Power Pool, Inc. and the Midwest Independent Transmission System Operator, Inc submit its response to the Commission's 3/3/06 letter order.

Filed Date: 4/4/2006.

Accession Number: 20060414-0123.

Comment Date: 5 p.m. Eastern Time on Tuesday, April 25, 2006.

Docket Numbers: ER06-189-001.

Applicants: Electric Energy, Inc.

Description: Electric Energy, Inc submits an amended and restated Power Supply Agreement, First Revised Rate Schedule No. 11, effective 1/1/03.

Filed Date: 4/5/2006.

Accession Number: 20060410-0048.

Comment Date: 5 p.m. Eastern Time on Wednesday, April 26, 2006.

Docket Numbers: ER06-706-001.

Applicants: Entergy Services.

Description: Entergy Services, Inc, on behalf of Entergy Arkansas, Inc submits corrected sheets A.1, B.1, and B.8 of its 2006 Wholesale Formula Rate Update, effective 3/1/06.

Filed Date: 3/23/2006.

Accession Number: 20060327-0091.

Comment Date: 5 p.m. Eastern Time on Thursday, April 13, 2006.

Docket Numbers: ER06-775-001.

Applicants: Public Service Company of New Mexico.

Description: Tucson Electric Power Co's Certificate of Concurrence in connection with the 2006 Interim Invoicing Agreement for the San Juan Generating Station dated as of 12/31/05.

Filed Date: 4/6/2006.

Accession Number: 20060412-0479.

Comment Date: 5 p.m. Eastern Time on Thursday, April 27, 2006.

Docket Numbers: ER06-821-001.

Applicants: PPM Companies.

Description: Moraine Wind LLC et al submit corrections to its proposed amendments filed 3/23/6 and 3/29/06.

Filed Date: 3/31/2006.

Accession Number: 20060412-0077.

Comment Date: 5 p.m. Eastern Time on Friday, April 21, 2006.

Docket Numbers: ER06-831-000.

Applicants: Union Electric Company; Ameren Energy Marketing Company; Central Illinois Public Service Company; Central Illinois Light Company; Illinois Power Company; and Union Electric Company.

Description: Application of Central Illinois Public Service Co, Central Illinois Light Co et al seeking authorization for AmerenUE et al to make power sales to their affiliates.

Filed Date: 4/5/2006.

Accession Number: 20060412-0354.

Comment Date: 5 p.m. Eastern Time on Wednesday, April 26, 2006.

Docket Numbers: ER06-834-000.

Applicants: Michigan Electric Transmission Co., LLC.

Description: Michigan Electric Transmission Co, LLC submits a notice of cancellation of the Facilities Agreement b/w Consumers Energy Co and Alpena Power Generation, LLC.

Filed Date: 4/5/2006.

Accession Number: 20060412-0067.

Comment Date: 5 p.m. Eastern Time on Wednesday, April 26, 2006.

Docket Numbers: ER06-838-000.

Applicants: American Electric Power Service Corporation.

Description: AEP Texas North Co submits two fully executed interconnection agreements with FPL Energy Horse Hollow Wind II, LP.

Filed Date: 4/6/2006.

Accession Number: 20060412-0483.

Comment Date: 5 p.m. Eastern Time on Thursday, April 27, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E6-6160 Filed 4-24-06; 8:45 am]

BILLING CODE 6717-01-P